DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Gulf of Mexico Mandatory Shrimp Vessel and Gear Characterization Survey.

OMB Control Number: 0648-0542.

Form Number(s): None.

Type of Request: Regular (extension of a currently approved information collection).

Number of Respondents: 1,410.

Average Time Per Response: 30 minutes.

Burden Hours: 705.

Needs and Uses: The Magnuson-Stevens Fishery Conservation and Management Act authorizes the Gulf of Mexico Fishery Management Council (Council) to prepare and amend fishery management plans for any fishery in waters under its jurisdiction. The National Marine Fisheries Service (NMFS) manages the commercial shrimp fishery in Federal waters of the Gulf of Mexico (Gulf) under the Fishery Management Plan for the Shrimp Fishery of the Gulf.

Owners or operators of vessels applying for or renewing a commercial vessel permit for the Gulf shrimp fishery must complete an annual Gulf Shrimp Vessel and Gear Characterization Form. NMFS provides the form to each permit holder in January each year, and the form is due to NMFS prior to the submission of a permit application for renewal or transfer. Compliance with this reporting requirement is required for permit issuance and renewal. The regulations requiring the Gulf Shrimp Vessel and Gear Characterization Form may be found at 50 CFR 622.51(a)(3).

Through this form, NMFS collects census-level information on fishing vessel and gear characteristics in the Gulf shrimp fishery to conduct analyses that will improve management decision-making in this fishery. In addition, these analyses ensure that national goals, objectives, and requirements of the Magnuson-Stevens Act, National Environmental Policy Act, Regulatory Flexibility Act, Endangered Species Act, and Executive Order 12866 are met; and quantify achievement of the performance measures in the NMFS' Operating Plans. This information is vital in assessing the economic, social, and environmental effects of fishery management decisions and regulations on individual shrimp fishing enterprises, fishing communities, and the nation as a whole.

Affected Public: Businesses or other for-profit organizations, and individuals or households.

Frequency: Annually.

Respondent's Obligation: Mandatory.

This information collection request may be viewed at reginfo.gov. Follow the instructions to view Department of Commerce collections currently under review by OMB.

Written comments and recommendations for the proposed information collection should be sent within 30 days of this notice publication by email to OIRA_Submission@omb.eop.gov or by fax to (202) 395-5806.

Sheleen Dumas,
Department PRA Clearance Officer, Office of the Chief Information Officer, Commerce Department.

[FR Doc. 2020-01938 Filed 1-31-20; 8:45 am]

BILLING CODE 3510-22-P